DEPARTMENT OF ENERGY

Fusion Energy Sciences Advisory Committee; Notice of Open Meeting

AGENCY: Department of Energy, Office of Science.

SUMMARY: This notice announces a meeting of the Fusion Energy Sciences Advisory Committee. The Federal Advisory Committee Act (Pub. L. 92-463, 86 Stat. 770) requires that public notice of these meetings be announced in the Federal Register.

DATES: Monday, March 7, 2011, 9 a.m. to 5 p.m.; Tuesday, March 8, 2011, 8:30 a.m. to 12 p.m.

ADDRESSES: Doubletree Bethesda Hotel and Executive Meeting Center, 8120 Wisconsin Avenue, Bethesda, Maryland 20814.

FOR FURTHER INFORMATION CONTACT: Albert L. Opdenaker, Office of Fusion Energy Sciences; U.S. Department of Energy; 1000 Independence Avenue, SW.; Washington, DC 20585-1290; Telephone: 301-903-4941.

SUPPLEMENTARY INFORMATION: Purpose of the Meeting: To inform the Committee about the Department's Fusion Energy Sciences (FES) fiscal year (FY) 2012 budget submission to Congress and to conduct other committee business.

Tentative Agenda Items:

• Office of Science FY 2012 Congressional Budget Request

• FES Program FY 2012 Congressional Budget Request

• FES Response to the Committee of Visitors' Review of the FES Program

• Update on the status of US ITER Activities

• Report on the Fusion Nuclear Sciences Pathways Assessment Activities

• Public Comments

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). Reasonable provision will be made to include the scheduled oral statements during the Public Comments time on the agenda. The Chairperson of the Committee will conduct the meeting to facilitate the orderly conduct of business. Public comment will follow the 10-minute rule.

Minutes: The minutes of the meeting will be available for public review on the Fusion Energy Sciences Advisory Committee Web site— http://www.science.doe.gov/ofes/fesac.shtml.

Issued at Washington, DC on January 20, 2011.
LaTanya Butler,
Acting Deputy Committee Management Officer.

[FR Doc. 2011-1598 Filed 1-25-11; 8:45 am]

BILLING CODE 6450-01-P